DEPARTMENT OF LABOR

Employment and Training Administration

[TA-W-53,057]

Lucent Technologies, Phoenix, AZ; Notice of Termination of Investigation

Pursuant to section 221 of the Trade Act of 1974, as amended, an investigation was initiated on September 30, 2003, in response to a worker petition filed on behalf of workers at Lucent Technologies, Phoenix, Arizona.

This investigation has revealed, through the records of the State Agency, that none of the petitioners were employed by Lucent Technologies. They were employed, and released by, a predecessor firm at the same location, AG Communications Systems.

The Department issued a negative determination applicable to the workers of AG Communications Systems, Phoenix, Arizona, on September 2, 2003 (TA-W-53,057).

Consequently, further investigation would serve no purpose, and the investigation has been terminated.

Signed at Washington, DC, this 18th day of November, 2003.
Linda G. Poole,
Certifying Officer, Division of Trade Adjustment Assistance.

[FR Doc. 03-29673 Filed 11-26-03; 8:45 am]

BILLING CODE 4510-30-P